DEPARTMENT OF HEALTH AND HUMAN SERVICES

National Institutes of Health

Proposed Collection; 60-Day Comment Request; Assessment of DAIDS Training Resources

SUMMARY: In compliance with the requirement of Section 3506(c)(2)(A) of the Paperwork Reduction Act of 1995, for opportunity for public comment on proposed data collection projects, the National Institute of Allergy and Infectious Diseases (NIAID), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Jacquelyn Burns, Office for Policy in Clinical Research Operations, DAIDS, NIAID, 6700B Rockledge Drive, Room 4118, Bethesda, MD 20852, or call non-toll-free number 301-402-0143, or Email your request, including your address to: Jburns@niaid.nih.gov. Formal requests for additional plans and instruments must be requested in writing.

Comment Due Date: Comments regarding this information collection are best assured of having their full effect if received within 60 days of the date of this publication.

Proposed Collection: Assessment of DAIDS Training Resources, 0925-New, National Institute of Allergy and Infectious Diseases (NIAID), National Institutes of Health (NIH).

Need and Use of Information Collection: This is a new data collection in order to assess the efficacy of training resources and their impact on NIAID-supported and/or sponsored research operations. The generic OMB clearance will allow collecting information about the knowledge, attitudes, and behaviors from target audiences (e.g., research staff) to help improve and inform these training resources. Information collected will be used to determine the future direction for training resources, including which resources should be continued, enhanced, added, or discontinued in order to utilize resources efficiently.

Findings will provide data to inform and guide the optimal development, dissemination, and revisions to improve NIAID trainings and resources. Various types of data will be collected, including post-assessment tests, questionnaires, interviews, and focus groups. Post-assessment tests will be administered at the time of the trainings to assess trainees' immediate knowledge gained, as well as reactions and satisfaction to the content. Select trainees will be queried at later time points (e.g., three-months, six-months) after they have participated in a training to understand if they have been able to apply their knowledge at the workplace, and identify facilitators or hindrances to implementing this new knowledge. The assessment team will conduct repeated data collections for these select trainees to determine any changes throughout time. In order to obtain information beyond self-reported data, select managers and supervisors will also be queried to assess if they have observed any changes in their staff after attending trainings, and if the work environment is conducive for trainees to implement knowledge from trainings.

OMB approval is requested for 3 years. There are no costs to respondents other than their time. The total estimated annualized burden hours are 847.

Estimated Annualized Burden Hours
Type of respondent | Data collection | Number of respondents | Number of responses per respondent | Average burden per response (in hours) | Total annualized burden (in hours)
Investigator | Survey Interviews Focus Groups | 120 12 4 | 5 1 1 | 10/60 1 90/60 | 100 12 6
Study Coordinator | Survey Interviews Focus Groups | 120 11 4 | 5 1 1 | 10/60 1 90/60 | 100 11 6
Pharmacy Staff | Survey Interviews Focus Groups | 140 9 4 | 5 1 1 | 10/60 1 90/60 | 117 9 6
Laboratory Staff | Survey Interviews Focus Groups | 170 11 4 | 5 1 1 | 10/60 1 90/60 | 142 11 6
Data Management Staff | Survey Interviews Focus Groups | 30 9 4 | 3 1 1 | 10/60 1 90/60 | 15 9 6
Quality Assurance/Quality Control Personnel | Survey Interviews Focus Groups | 75 11 4 | 5 1 1 | 10/60 1 90/60 | 63 11 6
Regulatory Coordinator | Survey Interviews Focus Groups | 75 11 4 | 5 1 1 | 10/60 1 90/60 | 63 11 6
Community Member | Survey Interviews Focus Groups | 23 6 4 | 3 1 1 | 10/60 1 90/60 | 12 6 6
Counselor | Survey Interviews Focus Groups | 30 6 4 | 3 1 1 | 10/60 1 90/60 | 15 6 6
IRB Member | Survey Interviews Focus Groups | 23 6 4 | 3 1 1 | 10/60 1 90/60 | 12 6 6
Clinical Researcher | Survey Interviews Focus Groups | 45 12 4 | 5 1 1 | 10/60 1 90/60 | 38 12 6

Dated: February 20, 2014.
Brandie Taylor,
Project Clearance Liaison, NIAID, NIH.

[FR Doc. 2014-04728 Filed 3-3-14; 8:45 am]

BILLING CODE 4140-01-P